DEPARTMENT OF DEFENSE

Office of the Secretary

[Transmittal No. 23-54]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-54, Policy Justification, and Sensitivity of Technology.

Dated: October 17, 2024.
Aaron T. Siegel,
Alternate OSD Federal Register Liaison Officer, Department of Defense.

BILLING CODE 6001-FR-P

BILLING CODE 6001-FR-C

Transmittal No. 23-54

Notice of Proposed Issuance of Letter of Offer Pursuant to Section 36(b)(1) of the Arms Export Control Act, as amended

(i) Prospective Purchaser: Government of Romania

(ii) Total Estimated Value:

Major Defense Equipment * | $75.5 million
Other | $45.0 million
TOTAL | $120.5 million

Funding Source: National Funds

(iii) Description and Quantity or Quantities of Articles or Services under Consideration for Purchase:

Major Defense Equipment (MDE):

Sixteen (16) Assault Amphibious Vehicles, Personnel Variant (AAVP-7Al)

Three (3) Assault Amphibious Vehicles, Command Variant (AAVC-7Al)

Two (2) Assault Amphibious Vehicle, Recovery Variant (AAVR-7Al)

Sixteen (16) 50 Cal Machine Guns (Heavy Barrel)

Five (5) 7.62 mm M240B Machine Guns

Non-MDE:

Also included are MK-19 Grenade Launchers; M36E T1 Thermal Sighting Systems (TSS); supply support (spare parts); support equipment (including special mission kits/Enhanced Applique Kits (EAAK)); training, unclassified technical manuals, technical data package, engineering and technical support and assistance (including Contractor Engineering Technical Services (CETS)); and other related elements of program and logistics support.

(iv) Military Department: Navy (RO-P-LWL)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: July 27, 2023

* As defined in Section 47(6) of the Arms Export Control Act.

POLICY JUSTIFICATION

Romania—Assault Amphibious Vehicles

The Government of Romania has requested to buy sixteen (16) Assault Amphibious Vehicles (AAVs), Personnel Variant (AAVP-7A1); three (3) Assault Amphibious Vehicles, Command Variant (AAVC-7A1); two (2) Assault Amphibious Vehicles, Recovery Variant (AAVR-7A1); sixteen (16) 50 Cal Machine Guns (Heavy Barrel); and five (5) 7.62 mm M240B Machine Guns. Also included are MK-19 Grenade Launchers; M36E T1 Thermal Sighting Systems (TSS); supply support (spare parts); support equipment (including special mission kits/Enhanced Applique Kits (EAAK)); training, unclassified technical manuals, technical data package, engineering and technical support and assistance (including Contractor Engineering Technical Services (CETS)); and other related elements of program and logistics support. The total estimated program cost is $120.5 million.

This proposed sale will support the foreign policy and national security objectives of the United States by helping to improve the security of a North Atlantic Treaty Organization (NATO) Ally which is an important force for political and economic stability in Europe. It is vital to the U.S. national interest to assist Romania in developing and maintaining a strong and ready self-defense capability.

The proposed sale will improve Romania's capability to meet current and future threats by modernizing and ensuring Romania's continued expeditionary capability to counter regional threats. Romania will have no difficulty absorbing this equipment and services into its armed forces.

The proposed sale of this equipment and support will not alter the basic military balance in the region.

A principal contractor has not been determined for potential sale. There are no known offset agreements proposed in connection with this potential sale.

Implementation of this proposed sale will not require the assignment of U.S. Government personnel but will require the assignment of one (1) contractor representative to Romania for approximately one (1) year to deliver AAVs, related equipment, and support.

There will be no adverse impact on U.S. defense readiness as a result of this proposed sale.

Transmittal No. 23-54

Notice of Proposed Issuance of Letter of Offer Pursuant to Section 36(b)(1) of the Arms Export Control Act

Annex

Item No. vii

(vii) Sensitivity of Technology:

1. The mission of the Assault Amphibious Vehicle (AAV) is to maneuver surface assault elements of the landing force and their equipment from assault shipping during amphibious operations to inland objectives and to conduct mechanized operations and related combat support in subsequent operations ashore.

a. The AAV-7A1 family of vehicles includes the personnel variant, which carries troops in amphibious operations from ship to shore, through the surf zone, and to inland objectives. The AAVP-7A1 provides protected transport of up to 25 combat-loaded personnel through all types of terrain.

b. The Command Variant, AAVC-7A1, is an armored assault amphibious full-tracked landing vehicle. The vehicle provides a mobile task force communication center in amphibious operations from ship to shore through surf zone to inland objectives.

c. The Recovery Variant, AAVR-7A1, is an armored assault amphibious full-tracked vehicle. The vehicle is designed to recover similar or smaller size vehicles. It also carries basic maintenance equipment to provide field support maintenance to vehicles in the field.

d. The 50 Cal Machine Gun (Heavy Barrel) is the standard weapon for the AAVP-7A1.

e. The 7.62 mm M240B Machine Gun is the standard weapon for the AAVC-7A1 and the AAVR-7A1.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Romania can provide substantially the same degree of protection for the sensitive technology being released as the U.S. Government. This sale is necessary in furtherance of the U.S. foreign policy and national security objectives outlined in the Policy Justification.

5. All defense articles and services listed in this transmittal have been authorized for release and export to the Government of Romania.

[FR Doc. 2024-24489 Filed 10-22-24; 8:45 am]

BILLING CODE 6001-FR-P